SECURITIES AND EXCHANGE COMMISSION

[Release No. 34-81435/August 18, 2017]

Securities Exchange Act of 1934; Order Scheduling Filing of Statements on Review in the Matter of the Chicago Stock Exchange, Inc. for an Order Granting the Approval of Proposed Rule Change Regarding the Acquisition of CHX Holdings, Inc. by North America Casin Holdings, Inc. (File No. SR-CHX-2016-20)

On December 2, 2016, the Chicago Stock Exchange, Inc. (“CHX” or “Exchange”) filed with the Securities and Exchange Commission (“Commission”), pursuant to Section 19(b)(1) of the Securities Exchange Act of 1934 (“Exchange Act”)¹ and Rule 19b-4 thereunder,² a proposed rule change in connection with the acquisition of CHX Holdings, Inc. by North America Casin Holdings, Inc. The proposed rule change was published for comment in the Federal Register on December 12, 2016.³ On January 12, 2017, proceedings were instituted under Section 19(b)(2)(B) of the Exchange Act ⁴ to determine whether to approve or disapprove the proposed rule change.⁵ On June 6, 2017, pursuant to Section 19(b)(2) of the Exchange Act,⁶ a longer period was designated for Commission action on proceedings to determine whether to disapprove the proposed rule change.⁷ On August 7, 2017, the Exchange filed Amendment No. 1 to the proposed rule change.⁸ On August 9, 2017, the Division of Trading and Markets, for the Commission pursuant to delegated authority,⁹ approved the proposed rule change, as modified by Amendment No. 1.¹⁰

¹ 15 U.S.C. 78s(b)(1).

² 17 CFR 240.19b-4.

³ See Securities Exchange Act Release No. 79474 (December 6, 2016), 81 FR 89543.

⁴ 15 U.S.C. 78s(b)(2)(B).

⁵ See Securities Exchange Act Release No. 79781, 82 FR 6669 (January 19, 2017).

⁶ 15 U.S.C. 78s(b)(2).

⁷ See Securities Exchange Act Release No. 80864, 82 FR 26966 (June 12, 2017).

⁸ See letter from Albert J. Kim, Vice President and Associate General Counsel, CHX, dated August 8, 2017, available at: https://www.sec.gov/comments/sr-chx-2016-20/chx201620-2198847-160378.pdf.

⁹ 17 CFR 200.30 3(a)(12).

¹⁰ See Securities Exchange Act Release No. 81366, 82 FR 38734 (August 15, 2017).

Pursuant to Commission Rule of Practice 431,¹¹ the Commission is reviewing the delegated action and the August 9, 2017 order is stayed.

¹¹ 17 CFR 201.431.

Accordingly, it is ordered, pursuant to Commission Rule of Practice 431, that by September 17, 2017, any party or other person may file any additional statement.

It is further ordered that the August 9, 2017 order approving the proposed rule change, as modified by Amendment No. 1 (File No. SR-CHX-2016-20), shall remain stayed pending further order of the Commission.

By the Commission.
Jill M. Peterson,
Assistant Secretary.

[FR Doc. 2017-17921 Filed 8-23-17; 8:45 am]

BILLING CODE 8011-01-P